DEPARTMENT OF AGRICULTURE

Forest Service

Request for Proposals: 2015 Wood Innovations Funding Opportunity

AGENCY: Forest Service.

ACTION: Request for proposals.

SUMMARY: The U.S. Forest Service (Forest Service) requests proposals to substantially expand and accelerate wood energy and wood products markets throughout the United States to support forest management needs on National Forest System and other forest lands. The grants and cooperative agreements awarded under this announcement will support the Agricultural Act of 2014 (Public Law 113-79), Rural Revitalization Technologies (7 U.S.C. 6601), and the nationwide challenge of disposing of hazardous fuels and other wood residues from the National Forest System and other forest lands in a manner that supports wood energy and wood products markets.

DATES: The application deadline is Friday, January 23, 2015 at 11:59 p.m. The Forest Service will hold an informational Pre-Application Webinar on November 5, 2014 at 1:00 p.m. Eastern Standard Time to present this funding opportunity and answer questions. The link is: https://www.livemeeting.com/cc/usda/join?id=BGW262&role=attend&pw=tK-%287%26Dwt.

FOR FURTHER INFORMATION: Information on application requirements, eligibility, and prerequisites for consideration are available at www.na.fs.fed.us/werc/ and www.grants.gov. Individuals who use telecommunication devices for the deaf (TDD) may call the Federal Relay Service (FRS) at 800-877-8339 24 hours a day, every day of the year, including holidays.

Please direct questions regarding this announcement to the appropriate Forest Service Regional Biomass Coordinator listed in the table below. If you have questions that a Coordinator is unable to assist you with, please contact Ed Cesa (ecesa@fs.fed.us or (304) 285-1530) or Steve Milauskas (smilauskas@fs.fed.us or (304) 487-1510) at the Wood Education and Resource Center in Princeton, WV.

Table 1—Forest Service Regional Biomass Coordinators
Forest Service Region 1 (MT, ND, Northern ID, & Northwestern SD), ATTN: Angela Farr, Forest Service Northern Region (R1), Federal Building, 200 East Broadway, Missoula, MT 59802, afarr@fs.fed.us, (406) 329-3521. | Forest Service Region 2 (CO, KS, NE, SD, & WY), ATTN: Mike Eckhoff, Forest Service, Rocky Mountain Region (R2), 740 Simms St, Golden, CO 80401-4702, mike.eckhoff@colostate.edu, (970) 219-2140.
Forest Service Region 3 (AZ & NM), ATTN: Walter Dunn, Forest Service, Southwestern Region (R3), 333 Broadway Blvd. SE., Albuquerque, NM 87102, wdunn@fs.fed.us, (505) 842-3425. | Forest Service Region 4 (Southern ID, NV, UT, & Western WY), ATTN: Scott Bell, Forest Service, Intermountain Region (R4), Federal Building, 324 25th St, Ogden, UT 84401, sbell@fs.fed.us, (801) 625-5259.
Forest Service Region 5 (CA, HI, Guam, and Trust Territories of the Pacific Islands), ATTN: Larry Swan, Forest Service, Pacific Southwest Region (R5), 1323 Club Drive, Vallejo, CA 94592, lswan01@fs.fed.us, (707) 562-8917. | Forest Service Region 6 (OR & WA), ATTN: Ron Saranich, Forest Service, Pacific Northwest Region (R6), 1220 SW 3rd Ave., Portland, OR 97204, rsaranich@fs.fed.us, (503) 808-2346.
Forest Service Region 8 (AL, AR, FL, GA, KY, LA, MS, NC, OK, SC, TN, TX, VA, Virgin Islands, & Puerto Rico), ATTN: Dan Len, Forest Service, Southern Region (R8), 1720 Peachtree Rd NW., Atlanta, GA 30309, dlen@fs.fed.us, (404) 347-4034. | Forest Service Region 9/Northeastern Area (CT, DL, IL, IN, IA, ME, MD, MA, MI, MN, MO, NH, NJ, NY, OH, PA, RI, VT, WV, WI), ATTN: Lew McCreery, Forest Service, Northeastern Area—S&PF, 180 Canfield St, Morgantown, WV 26505, lmccreery@fs.fed.us, (304) 285-1538.
Forest Service Region 10 (Alaska), ATTN: Daniel Parrent, Forest Service, Alaska Region (R10), 161 East 1st Avenue, Door 8, Anchorage, AK 99501, djparrent@fs.fed.us, (907) 743-9467.

Grant Program Overview:

Available Funding: The Forest Service plans to award approximately $5 million under this announcement. The maximum for each award is generally $250,000; however, the Forest Service may consider awarding more than $250,000 to a proposal that shows far reaching or significant impact. All awards are based on availability of funding.

Eligible Applicants: Eligible applicants are for-profit entities; State, local, and Tribal governments; school districts; communities; not-for-profit organizations; or special purpose districts (e.g., public utilities districts, fire districts, conservation districts, or ports).

Matching Requirements: A minimum 35:65 match is required. That is, an applicant must contribute at least 35 percent of the total project cost. The Forest Service's share of the project will be no more than 65 percent of the total. The applicant's match or contribution must come from non-Federal source funds. The match may include cash or in-kind contributions. All matching funds must be directly related to the proposed project. The source of third-party contributions must be identified in an accompanying letter of support.

Deadline: Friday, January 23, 2015 at 11:59 p.m.

Award Information: Grants and Cooperative Agreements awarded under this announcement are typically awarded for two to three years. Projects of greater complexity may be awarded for up to five years. The Forest Service will notify a recipient if their proposal is selected for award and indicate whether any additional forms or information is required and an estimate of when they may proceed. The Federal government will incur no legal obligation until appropriated funds are available and a Forest Service Grant Officer returns a fully executed award letter to a successful applicant.

Note: An award to a for-profit entity will generate an Internal Revenue Service (IRS) Form 1099 Miscellaneous Income that will be filed with the IRS and provided to the awardee. The Forest Service expresses no opinion on the taxability, if any, of the awarded grant funds.

Reporting Requirements: A Federal Financial Report (SF-425) and progress report are required on an annual calendar year basis and must be submitted to the appropriate Grant Officer. A detailed final report is required and should include: (1) Final Summary Report (brief overview of accomplishments of the goals and objectives described in the approved award); and (2) Final Accomplishment Report (includes assessments, reports, case studies, and related documents that resulted from project activities). Ten percent of awarded funds will be withheld until an acceptable final report is approved by the Forest Service. Forest Service will post final reports on the Wood Education and Resource Center Web site.

Wood Innovations Grant Categories

The Forest Service seeks proposals that significantly increase or stimulate markets for wood energy and wood products in a manner that has a measurable and meaningful long-term impact on National Forest System and other forest lands that need robust wood supply markets for low value wood.

This Request for Proposal focuses on the following priorities to:

• Reduce hazardous fuels and improve forest health on National Forest System and other forest lands.

• Reduce costs of forest management on all land types.

• Promote economic and environmental health of communities.

Funding will be awarded to two separate categories outlined as follows.

Grant Category 1: Expansion of Wood Energy Markets

The intent of this category is to stimulate, expand, or support wood energy markets that depend on forest residues or forest byproducts generated from all land types. Preference will be given to projects that make use of low value wood generated from National Forest System and other forest lands with high wildfire risk.

The most competitive proposals will generate immediate and measurable on-the-ground results or substantially stimulate adoption of wood energy. Research based proposals or proposals incorporating technologies that are not commercially proven will not be competitive under this category.

Grant Category 1 is separated into the following three main project types:

1. Statewide Wood Energy Teams

Establish a statewide wood energy team that provides technical, financial, and outreach assistance for wood energy projects. Example team activities include, but are not limited to, holding public workshops, conducting prefeasibility and preliminary engineering assessments, offering training for Architects and Engineers to scope and design wood energy systems, and identifying financing opportunities.

Note: You can view the activities of existing Statewide Wood Energy Teams at: http://na.fs.fed.us/werc/swet/. Proposals to establish a Statewide Wood Energy team in the following states will not be considered because a team is already in place: AK, AZ, CA, CO, ID, KY, MN, MT, NH, NM, NY, OR, VT, WA, WI, and WV.

2. Wood Energy Projects

Complete engineering designs, cost analyses, permitting, or other requirements for wood energy projects that are necessary in the later stages of project development to secure financing.

Note: Preference will be given to proposals that bundle or address multiple wood energy projects. Projects in early project scoping or planning that need preliminary analyses, pre-feasibility assessments, or other assistance that is typical in the early phases of project development will not be competitive.

3. Wood Energy Markets

Expand or support wood energy markets that use low value wood residues for heating, cooling, or electricity production. Projects can include, but are not limited to the following:

a. Develop a cluster of wood energy projects in a geographic area or specific sector (e.g., prisons, hospitals, universities, manufacturing sector, or industrial sector).

b. Evaluate and recommend a commercial, institutional, or industrial sector most suitable for wood energy that has not traditionally used wood for heating, cooling, or electricity.

c. Conduct a feasibility assessment of several municipalities that would be ideal candidates to construct a district wood energy system for heating, cooling, and electricity.

d. Develop innovative financing or new funding opportunities for wood energy development.

e. Overcome market barriers and stimulate expansion of wood energy in the commercial sector.

Grant Category 2: Expansion of Wood Products Markets

The intent of this category is to promote markets that create or expand the demand for non-energy based wood products. Preference will be given to projects that support commercial building markets or other markets that use existing or innovative wood products. Wood energy projects will not be considered under this category because those projects can apply for funding under Grant Category 1.

Projects can include, but are not limited to the following:

1. Develop training on construction or manufacturing techniques that use new building materials or building designs (e.g., structural roundwood or cross-laminated timbers).

2. Conduct a market analysis and perform targeted marketing to expand the use of wood materials in commercial construction (e.g., buildings or bridges).

3. Establish statewide wood action teams that focus on using wood in support of Forest Service Regional/Area priorities and State Forest Action Plans.

4. Facilitate establishment of new building codes to support expanded use of wood materials.

5. Demonstrate the beneficial characteristics of wood as a green building material, including investments in life cycle assessments and environmental product declarations for wood products.

6. Develop a carbon trading market protocol for wood building materials that accounts for the fossil carbon offset from using wood.

7. Develop markets to use unexpected increases in volumes of wood caused by natural events (e.g., insects, diseases, hurricanes, tornadoes, and ice storms).

8. Develop manufacturing capacity and markets for wood products that support forest ecosystem restoration, such as biochar, biofuel, mulch, and soil amendments.

The above list of examples is not exhaustive and is intended only to give you a sense of the types of projects considered.

Funding for construction projects or equipment purchases will not be funded under either Grant Category.

Application Process

Application information is available at the following two Web sites:

• http://www.na.fs.fed.us/werc/ (under Wood Innovations)

• www.grants.gov (Search: Opportunity: USDA-FS-WERC-2015 or CFDA 10.674 Wood Utilization Assistance, Agency Forest Service).

Applicants should consult with the appropriate Forest Service Regional Biomass Coordinator to develop proposals (see Table 1 of Contacts section). Proposals should align with Forest Service Regional/Area priorities and State Forest Action Plans.

Application Submission: Applications must be submitted by email to the respective Forest Service Regional Biomass Coordinator listed in the Contacts section of this announcement by 11:59 p.m. on January 23, 2015. NO EXCEPTIONS. Paper submittals will not be accepted.

Note: Your Forest Service Region is generally determined by the State where the majority of the proposed work will be conducted. Two Forest Service regions may exist in one State. You can locate your Forest Service region at: http://www.fs.fed.us/maps/products/guide-national-forests09.pdf. Consult with a Forest Service Regional Biomass Coordinator if you are not certain which Region applies.

Application Format and Content: Each submittal must consist of two separate PDF files, preferably in a searchable format, as follows:

• PDF file #1: Application Part 1 (Cooperator Contact Information) and Application Part 2 (Proposal and Appendices).

• PDF file #2: Application Part 3 (Required Financial Forms, which must include SF-424, SF-424A, SF-424B, AD-1047, AD-1049 (or AD-1052 for States and State agencies), AD-3030, FS-1500-35 (certificate regarding lobbying activities), and Financial Capability Questionnaire FS-1500-22).

Note: The applicant must include a DUNS number and register at www.sam.gov to receive a federal award.

Application Parts 1, 2, and 3 can be found at http://www.na.fs.fed.us/werc/ under Wood Innovations. Submit all application information at the same time.

The Proposal in Application Part 2 must be presented on 8.5 x 11 single-spaced pages with 1-inch margins using 12-point Times New Roman font. A maximum of 11 pages for items #1 through #5 listed below will be accepted for Application Part 2:

1. Project Narrative (4 pages):

• The project narrative should provide a clear description and anticipated impact of the project, including the following where appropriate: (1) Magnitude of the impact on markets generating renewable energy or creating non-energy wood products; (2) Benefits to National Forest System lands (e.g., tons of biomass removed in fire-prone areas, air quality improvements, cost savings for forest management, or carbon offsets); (3) Source of biomass removed from forested areas broken out by land ownership; and (4) Job creation and retention.

• Describe methods and reasoning for selecting areas of focus (e.g., geographic clusters, sector-based clusters, or larger projects to be targeted).

• Specify the number of years requested for the award.

2. Program of Work (3 pages):

• Describe statement of need, goals, and objectives.

• Describe methods to accomplish goals and objectives.

• Specify projected accomplishments and deliverables.

• Discuss communication and outreach activities that create social acceptance in communities or markets where projects are targeted.

• Describe monitoring plan, which must include annual and final reports.

• Discuss all relevant aspects of the project, such as preliminary assessments, resource inventories, and success stories.

• Describe projected impact on wood energy or wood products markets.

• Include a timeline for key activities.

3. Budget Summary and Justification in Support of SF-424A (2 pages);

• Address proposed expenditures in relation to the proposed program of work.

• Specify cash and in-kind match, other Federal funds, and staff time that will help accomplish the program of work.

• Describe the fee structure if fee-for-services is planned.

4. Qualifications of Staff, Organization, and Partners (1.5 page):

• Include key personnel qualifications, certifications, and relevant experience.

• Describe experience and success of any prior funded Forest Service projects.

5. Project Outcomes, Annual Progress Reports, and Final Reports (0.5 pages):

• List anticipated project outcomes and accomplishments.

• Describe types of reports, documents, and success stories that will be provided at the end of the project to be posted on the Wood Education and Resource Center Web site.

Documentation exceeding the designated page limit requirements for any given section will not be considered. Appendices should be very well organized so that a reviewer can readily find information of interest. Include information in the Appendices that will help a review panel better understand and evaluate your project. Below are examples of information to include in the Appendices:

• Feasibility Assessments

• Woody Biomass Resource Supply Assessment

• If appropriate, quotes for Professional Engineering Services and rationale for selection of contractor, if already selected.

• Letters of Support from Partners, Individuals, or Organizations, especially those playing a key role or providing any matching funds. Letters of support should display the degree of collaboration occurring between the different entities engaged on the project. These letters must include partner commitments of cash or in-kind services from all those listed in the SF-424 and SF-424A.

• Miscellaneous, such as schematics, engineering designs, or executive summaries of reports.

• List of all other Federal funds received for this project within the last 3 years (include agency, program name, and dollar amount).

Proposal Evaluation

All applications will be screened to ensure basic compliance with the directions in this announcement. Applications not following the directions will be disqualified without appeal. A panel of Federal experts and their designees will perform a thorough technical review of eligible proposals and evaluate the proposals according to the criteria outlined in this announcement. Regional Foresters and the Northeastern Area Director will rank proposals according to regional and area priorities. The panel, Regional Foresters, and Northeastern Area Director will submit their recommendations to the Forest Service national leadership for a final decision.

Evaluation Criteria and Point System: Reviewers will assign points to each proposal based on its ability to meet the following criteria. A maximum of 100 total points can be earned per proposal.

• Alignment with goals and objectives of this Request for Proposals. (20 points)

• Technical approach, deliverables, and timetable. (30 points)

• Impact on wood energy or wood products markets. (20 points)

• Qualifications, relevant experience, and roles of team members. (20 points)

• Leveraging of federal funds. (10 points)

Dated: September 19, 2014.
James Hubbard,
Deputy Chief, State and Private Forestry.

[FR Doc. 2014-25514 Filed 10-24-14; 8:45 a.m.]

BILLING CODE 3411-15-P